DEPARTMENT OF TRANSPORTATION

Federal Aviation Administration

14 CFR Part 71

Proposed Establishment of Class C Airspace for Long Beach, CA; Public Meetings

AGENCY: Federal Aviation Administration (FAA), DOT.

ACTION: Notice of meetings.

SUMMARY: This notice announces two fact-finding informal airspace meetings to solicit information from airspace users and others, concerning a proposal to establish Class C airspace at Long Beach, CA. The purpose of these meetings is to provide interested parties an opportunity to present views, recommendations, and comments on the proposal. All comments received during these meetings will be considered prior to any issuance of a notice of proposed rulemaking.

DATES: The informal airspace meetings will be held on October 25 and 26, 2011. Meetings will run from 6 p.m. until 9 p.m. Comments must be received on or before December 12, 2011.

ADDRESSES: The meetings will be held at the Holiday Inn Long Beach Airport, 2640 N. Lakewood Blvd., Long Beach, CA 90815, 562-597-4401.

Comments: Send comments on the proposal, in triplicate, to: John Warner, Operations Support Group, AJV-W2, Western Service Area, Air Traffic Organization, Federal Aviation Administration, 1601 Lind Avenue, SW., Renton, WA 98057.

FOR FURTHER INFORMATION CONTACT: Pat Anderson (838) 537-5847 or Rick Pfahler, (858) 537-5830, FAA Support Managers, Southern California TRACON, 9175 Kearny Villa Road, San Diego, CA 92126:

SUPPLEMENTARY INFORMATION:

Meeting Procedures

(a) Doors open 30 minutes prior to the beginning of each meeting. The meetings will be informal in nature and will be conducted by one or more representatives of the FAA Western Service Area. A representative from the FAA will present a briefing on the proposed establishment of Class C airspace at Long Beach, CA. Each participant will be given an opportunity to deliver comments or make a presentation, although a time limit may be imposed. Only comments concerning the proposal to establish Long Beach Class C airspace will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meetings will be filed in the docket.

Agenda for the Meetings

—Sign-in.

—Presentation of meeting procedures.

—FAA briefing on the proposed establishment of the Class C Airspace Area.

—Solicitation of public comments.

—Closing comments.

Issued in Washington, DC, on August 16, 2011.
Gary A. Norek,
Acting Manager, Airspace, Regulations and ATC Procedures Group.

[FR Doc. 2011-21424 Filed 8-22-11; 8:45 am]

BILLING CODE 4910-13-P